NUCLEAR REGULATORY COMMISSION

[NRC-2022-0165]

Performance Review Boards for Senior Executive Service

AGENCY: Nuclear Regulatory Commission.

ACTION: Appointments.

SUMMARY: The Nuclear Regulatory Commission (NRC) has announced appointments to the NRC Performance Review Board (PRB) responsible for making recommendations on performance appraisal ratings and performance awards for NRC Senior Executives and Senior Level System employees and appointments to the NRC PRB Panel responsible for making recommendations to the appointing and awarding authorities for NRC PRB members.

DATES: September 27, 2022.

ADDRESSES: Please refer to Docket ID NRC-2022-0165 when contacting the NRC about the availability of information regarding this document. You may obtain publicly available information related to this document using any of the following methods:

• Federal Rulemaking Website: Go to https://www.regulations.gov and search for Docket ID NRC-2022-0165. Address questions about Docket IDs in Regulations.gov to Stacy Schumann; telephone: 301-415-0624; email: Stacy.Schumann@nrc.gov. For technical questions, contact the individual listed in the FOR FURTHER INFORMATION CONTACT section of this document

• NRC's Agencywide Documents Access and Management System (ADAMS): You may obtain publicly available documents online in the ADAMS Public Documents collection at https://www.nrc.gov/reading-rm/adams.html. To begin the search “Begin Web-based ADAMS Search.” For problems with ADAMS, please contact the NRC's Public Document Room (PDR) reference staff at 1-800-397-4209, 301-415-4737, or by email to PDR.Resource@nrc.gov.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8:00 a.m. and 4:00 p.m. Eastern Time (ET), Monday through Friday, except Federal holidays.

FOR FURTHER INFORMATION CONTACT: Mary A. Lamary, Secretary, Executive Resources Board, U.S. Nuclear Regulatory Commission, Washington, DC 20555-0001; telephone: 301-415-3300, email: Mary.Lamary@nrc.gov.

SUPPLEMENTARY INFORMATION: The following individuals appointed as members of the NRC PRB are responsible for making recommendations to the appointing and awarding authorities on performance appraisal ratings and performance awards for Senior Executives and Senior Level System employees:

Daniel H. Dorman, Executive Director for Operations

Marian L. Zobler, General Counsel

Catherine Haney, Deputy Executive Director for Materials, Waste, Research, State, Tribal, Compliance, Administration, and Human Capital Programs, Office of the Executive Director for Operations

Darrell J. Roberts, Deputy Executive Director for Reactor and Preparedness Programs, Office of the Executive Director for Operations

Brooke P. Clark, Secretary of the Commission, Office of the Secretary

John B. Giessner, Regional Administrator, Region-III

Jennifer M. Golder, Director, Office of Administration

Mirela Gavrilas, Director, Office of Nuclear Security and Incident Response

Cherish K. Johnson, Chief Financial Officer

John W. Lubinski, Director, Office of Nuclear Materials and Safety Safeguards

Andrea D. Veil, Director, Office of Nuclear Reactor Regulation

The following individuals will serve as members of the NRC PRB Panel that was established to review appraisals and make recommendations to the appointing and awarding authorities for NRC PRB members:

Bernice C. Ammon, Deputy General Counsel for Licensing, Hearings, and Enforcement, Office of the General Counsel

David J. Nelson, Office of the Chief Information Officer

Scott A. Morris, Regional Administrator, Region IV

All appointments are made pursuant to section 4314 of chapter 43 of Title 5 of the United States Code.

Dated: September 21, 2022.
For the Nuclear Regulatory Commission.
Mary A. Lamary,
Secretary, Executive Resources Board.

[FR Doc. 2022-20821 Filed 9-26-22; 8:45 am]

BILLING CODE 7590-01-P